DEPARTMENT OF COMMERCE

National Oceanic and Atmospheric Administration

Notice of Renewal of the Marine Protected Areas Federal Advisory Committee

AGENCY: Office of National Marine Sanctuaries (ONMS), National Ocean Service (NOS), National Oceanic and Atmospheric Administration (NOAA), Department of Commerce (DOC).

ACTION: Notice of renewal of the Marine Protected Areas Federal Advisory Committee.

SUMMARY: In accordance with the provisions of the Federal Advisory Committee Act, 5 U.S.C. App 2, and the Federal Advisory Committee Management Final Rule, 41 CFR part 102-3, and after consultation with the General Services Administration (GSA), the Secretary of Commerce has determined that the renewal of the Marine Protected Areas Federal Advisory Committee (MPAFAC) is in the public interest in connection with the performance of duties imposed on the Department by law. The Committee's revised charter is available at http://marineprotectedareas.noaa.gov/fac/.

SUPPLEMENTARY INFORMATION: The Committee was first established in 2003 to advise the Secretary of Commerce, through the Under Secretary of Commerce for Oceans and Atmosphere, and the Secretary of the Interior on matters relating to the national system of marine protected areas as set forth in Executive Order 13158, Section 4(c) (May 2000).

The Committee will have a balanced membership consisting of 20 non-Federal members serving in a representative capacity. All members should have expertise in marine protected areas; membership may include scientists; resource managers; and representatives of conservation organizations, other non-governmental organizations, and affected interest groups such as fishing, ocean industry, and tourism. Each candidate member shall be appointed by the Under Secretary of Commerce for Oceans and Atmosphere, in consultation with the Secretary of the Interior, for a non-renewable term of four years.

The Committee will function solely as an advisory body, and in compliance with provisions of the Federal Advisory Committee Act. Copies of the Committee's revised Charter have been filed with the appropriate committees of the Congress and with the Library of Congress. The Committee's revised charter is available at http://www.marineprotectedareas.noaa.gov/fac/.

FOR FURTHER INFORMATION CONTACT: Lauren Wenzel, Designated Federal Officer, MPA FAC, National Marine Protected Areas Center, 1305 East West Highway, Silver Spring, Maryland 20910. (Phone: 240-533-0652); email: lauren.wenzel@noaa.gov; or visit the National MPA Center Web site at http://marineprotectedareas.noaa.gov/fac/).

Dated: January 17, 2017.
John Armor,
Director, Office of National Marine Sanctuaries, National Ocean Service, National Oceanic and Atmospheric Administration.

[FR Doc. 2017-01934 Filed 1-27-17; 8:45 am]

BILLING CODE 3510-NK-P